DEPARTMENT OF THE TREASURY

Submission for OMB Review; Comment Request

October 13, 2016.

The Department of the Treasury will submit the following information collection request to the Office of Management and Budget (OMB) for review and clearance in accordance with the Paperwork Reduction Act of 1995, Public Law 104-13, on or after the date of publication of this notice.

DATES: Comments should be received on or before November 17, 2016 to be assured of consideration.

ADDRESSES: Send comments regarding the burden estimates, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8117, Washington, DC 20220, or email at PRA@treasury.gov.

FOR FURTHER INFORMATION CONTACT: Copies of the submission may be obtained by emailing PRA@treasury.gov, calling (202) 622-0934, or viewing the entire information collection request at www.reginfo.gov.

Financial Crimes Enforcement Network (FinCEN)

OMB Control Number: 1506-0045.

Type of Review: Extension of a previously approved collection.

Title: Imposition of Special Measure against Banco Delta Asia.

Abstract: FinCEN, of the U.S. Department of the Treasury, issued a final rule under the authority of section 5318A of Title 31, United States Code, to impose a special measure against Banco Delta Asia, including its subsidiaries Delta Asia Credit Limited and Delta Asia Insurance Limited. FinCEN has determined that Banco Delta Asia is a financial institution of primary money laundering concern, and that the imposition of the special measure selected—prohibiting domestic financial institutions from maintaining foreign correspondent accounts with Banco Delta Asia—is a necessary step to ensure the Bank is not able to access the U.S. financial system for terrorist financing or money laundering, or for any other criminal purpose. The collection of information in the rule relates to both disclosure and recordkeeping by and for domestic financial institutions.

Affected Public: Businesses or other for-profits.

Estimated Total Annual Burden Hours: 5,000.

Brenda Simms,
Treasury PRA Clearance Officer.

[FR Doc. 2016-25109 Filed 10-17-16; 8:45 am]

BILLING CODE 4810-02-P